DEPARTMENT OF ENERGY

Federal Energy Regulatory Commission

[Project Nos. 2386-004, 2387-003, 2388-004]

City of Holyoke Gas and Electric Department; Notice of Application Ready for Environmental Analysis and Soliciting Comments, Recommendations, Terms and Conditions, and Prescriptions

Take notice that the following hydroelectric applications have been filed with the Commission and are available for public inspection.

a. Type of Application: Subsequent Licenses.

b. Project Nos.: 2386-004, 2387-003, and 2388-004.

c. Date filed: August 31, 2016.

d. Applicant: City of Holyoke Gas and Electric Department.

e. Names of Projects: Holyoke Number 1 Hydroelectric Project, P-2386-004; Holyoke Number 2 Hydroelectric Project, P-2387-003; and Holyoke Number 3 Hydroelectric Project, P-2388-004.

f. Locations: Holyoke Number 1 (P-2386-004) and Holyoke Number 2 (P-2387-003) are located between the first and second level canals, and Holyoke Number 3 (P-2388-004) is located between the second and third level canals on the Holyoke Canal System, adjacent to the Connecticut River, in the city of Holyoke in Hampden County, Massachusetts. The projects do not occupy federal land.

g. Filed Pursuant to: Federal Power Act 16 U.S.C. 791(a)-825(r).

h. Applicant Contact: Paul Ducheney, Superintendent, City of Holyoke Gas and Electric Department, 99 Suffolk Street, Holyoke, MA 01040, (413) 536-9340 or ducheney@hged.com.

i. FERC Contact: Kyle Olcott at (202) 502-8963; or email at kyle.olcott@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include the relevant docket number(s): P-2386-004, P-2387-003, and/or P-2388-004.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. These applications have been accepted and are now ready for environmental analysis.

l. The existing Holyoke Number 1 Project consists of: (1) An intake at the wall of the first level canal fed by the Holyoke Canal System (licensed under FERC Project No. 2004) with two 14.7-foot-tall by 24.6-foot-wide trash rack screens with 3.5-inch clear spacing; (2) two parallel 10-foot-diameter, 36.5-foot-long penstocks; (3) a 50-foot-long by 38-foot-wide brick powerhouse with two 240-kilowatt and two 288-kilowatt turbine generator units; (4) two parallel 20-foot-wide, 328.5-foot-long brick arched tailrace conduits discharging into the second level canal; and, (5) appurtenant facilities. There is no transmission line associated with the project as it is located adjacent to the substation of interconnection. The project is estimated to generate 2,710,000 kilowatt-hours annually.

The existing Holyoke Number 2 Project consists of: (1) An intake at the wall of the first level canal fed by the Holyoke Canal System (licensed under FERC Project No. 2004) with three trash rack screens (one 16.2-foot-tall by 26.2-foot-wide and two 14.8-foot-tall by 21.8-foot-long) with 3-inch clear spacing; (2) two 9-foot diameter, 240-foot-long penstocks; (3) a 17-foot-high by 10-foot-diameter surge tank; (4) a 60-foot-long by 40-foot-wide by 50-foot high powerhouse with one 800-kilowatt vertical turbine generator unit; (5) two parallel 9-foot-wide, 10-foot-high, 120-foot-long brick arched tailrace conduits discharging into the second level canal; (6) an 800-foot-long, 4.8-kilovolt transmission line; and (7) appurtenant facilities. The project is estimated to generate 4,710,000 kilowatt-hours annually.

The existing Holyoke Number 3 Project consists of: (1) A 52.3-foot-long by 14-foot-high intake trash rack covering an opening in the second level canal fed by the Holyoke Canal System (licensed under FERC Project No. 2004); (2) two 11-foot-high by 11-foot-wide headgates; (3) two 85-foot-long, 93-square-foot in cross section low pressure brick penstocks; (4) a 42-foot-long by 34-foot-wide by 28-foot-high reinforced concrete powerhouse with one 450-kilowatt turbine generator unit; (5) a 29.7-foot-wide, 10-foot-deep, 118-foot-long open tailrace discharging into the third level canal; and, (6) 4.8-kilovolt generator leads that connect directly to the 4.8-kilovolt area distribution system; and (7) appurtenant facilities. The project is estimated to generate 2,119,000 kilowatt-hours annually.

m. Copies of the applications are available for review at the Commission in the Public Reference Room or may be viewed on the Commission's website at http://www.ferc.gov using the “eLibrary” link. Enter the docket number excluding the last three digits in the docket number field to access the document. For assistance, contact FERC Online Support. Copies are also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the applications directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural schedule: The applications will be processed according to the following schedule. Revisions to the schedule will be made as appropriate.

Commission issues draft EA, December 2018

Comments on draft EA, February 2019

Commission issues final EA, June 2019

Dated: July 16, 2018.
Kimberly D. Bose,
Secretary.

[FR Doc. 2018-15560 Filed 7-19-18; 8:45 am]

BILLING CODE 6717-01-P